DEPARTMENT OF TRANSPORTATION

Federal Aviation Administration

14 CFR Part 39

[Docket No. 2002-CE-07-AD; Amendment 39-13012; AD 2003-01-01]

RIN 2120-AA64

Airworthiness Directives; Raytheon Aircraft Company Beech Models 36, A36, A36TC, B36TC, 58, and 58A Airplanes

AGENCY: Federal Aviation Administration, DOT.

ACTION: Final rule.

SUMMARY: This amendment supersedes Airworthiness Directive (AD) 2000-26-16, which applies to certain Raytheon Aircraft Company (Raytheon) Beech Models A36, B36TC, and 58 airplanes. AD 2000-26-16 requires you to inspect for missing rivets on the right hand side of the fuselage and, if necessary, install rivets. AD 2000-26-16 resulted from Raytheon identifying several instances of missing rivets on these airplanes. AD 2000-26-16 incorporated an incorrect listing of serial numbers for the affected model airplanes and omitted certain airplane models from the applicability section of AD 2000-26-16. This AD retains the actions required in AD 2000-26-16 and corrects the applicability section. The actions specified by this AD are intended to detect and correct missing rivets in the right hand fuselage panel assembly in the area above the right wing and below the cabin door threshold. These rivets must be present for the fuselage to carry the ultimate load and prevent critical structural failure with loss of airplane control.

DATES: This AD becomes effective on February 27, 2003.

The Director of the Federal Register previously approved the incorporation by reference of Raytheon Mandatory Service Bulletin SB 53-3341, Rev. 1, Revised May, 2000, as of February 16, 2001 (66 FR 1253, January 8, 2001).

The Director of the Federal Register approved the incorporation by reference of Raytheon Mandatory Service Bulletin SB 53-3341, Rev. 2, Revised October, 2002, as of February 27, 2003.

ADDRESSES: You may get the service information referenced in this AD from Raytheon Aircraft Company, 9709 E. Central, Wichita, Kansas 67201-0085; telephone: (800) 429-5372 or (316) 676-3140. You may view this information at the Federal Aviation Administration (FAA), Central Region, Office of the Regional Counsel, Attention: Rules Docket No. 2002-CE-07-AD, 901 Locust, Room 506, Kansas City, Missouri 64106; or at the Office of the Federal Register, 800 North Capitol Street, NW, suite 700, Washington, DC.

FOR FURTHER INFORMATION CONTACT: T.N. Baktha, Aerospace Engineer, FAA, Wichita Aircraft Certification Office, 1801 Airport Road, Wichita, Kansas 67209; telephone: (316) 946-4155; facsimile: (316) 946-4407.

SUPPLEMENTARY INFORMATION:

Discussion

What Events Have Caused This AD?

Raytheon production and inspection personnel identified several instances of missing rivets on Models A36, B36TC, and 58 airplanes. The missing rivets are the result of a quality control problem. This condition caused us to issue AD 2000-26-16, Amendment 39-12066 (66 FR 1253, January 8, 2001). AD 2000-26-16 requires you to inspect for missing rivets on the right hand fuselage and if necessary, install rivets.

What Has Happened Since AD 2000-26-16 To Initiate This Action?

Raytheon notified FAA that the airplane models and serial numbers listed in Raytheon Mandatory Service Bulletin SB 53-3341, Rev. 1, Revised: May, 2000, and the applicability section of AD 2000-26-16 are incorrect. The serial number designations did not correctly refer to the applicable airplane models. We are adding Beech Models 36, A36TC, and 58A airplanes to the applicability section of this AD to correct this in this document.

What Is the Potential Impact If FAA Took No Action?

This condition, if not corrected, could result in the airplane being unable to carry the ultimate load which could cause structural failure and loss of airplane control.

Has FAA Taken Any Action to This Point?

We issued a proposal to amend part 39 of the Federal Aviation Regulations (14 CFR part 39) to include an AD that would apply to certain Raytheon Beech Models 36, A36, A36TC, B36TC, 58, and 58A airplanes. This proposal was published in the Federal Register as a notice of proposed rulemaking (NPRM) on August 14, 2002 (67 FR 52894). The NPRM proposed to supersede AD 2000-26-16, Amendment 39-12066, with a new AD that would retain the actions required in AD 2000-26-16 and add certain airplane models to the applicability section of this AD.

Was the Public Invited To Comment?

The FAA encouraged interested persons to participate in the making of this amendment. We did not receive any comments on the proposed rule or on our determination of the cost to the public.

The manufacturer has issued Revision 2 to Raytheon Mandatory Service Bulletin SB 53-3341. This service information contains a corrected list of affected airplane models and serial numbers. We will incorporate this service bulletin into the procedures section of this AD.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 3,632 airplanes in the U.S. registry.

What Is the Cost Impact of This AD on Owners/Operators of the Affected Airplanes?

We estimate the following costs to accomplish the inspection:

Labor cost | Parts cost | Total cost per airplane | Total cost on U.S. operators
1 workhour × $60 per hour = $60 | No parts required for the inspection | $60 per airplane | $60 × 3632 = $217,920

We estimate the following costs to accomplish the modification if necessary:

Labor cost | Parts cost | Total cost per airplane
4 workhours × $60 per hour = $240 | $100 per airplane | $340 per airplane

What Is the Difference Between the Cost Impact of This AD and the Cost Impact of AD 2000-26-16?

The only difference between this AD and AD 2000-26-16 is the correction to the applicability. No additional actions are being added. The FAA has determined that this AD action does not increase the cost impact over that already required by AD 2000-26-16.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-01-01 Raytheon Aircraft Company: Amendment 39-13012; Docket No. 2002-CE-07-AD.

(a) What airplanes are affected by this AD? This AD affects the following airplane models and serial numbers that are certificated in any category:

Model | Serial Nos.
(1) Group 1:
A36 | E-185 through E-3231 and E-3233.
B36TC | EA-242 and EA-273 through EA-635.
58 | TH-1 through TH-1811 and TH-1813 through TH-1897.
(2) Group 2:
36 | E-1 through E-184.
A36TC | EA-1 through EA-241 and EA-243 through EA-272.
58A | TH-1 through TH-1811 and TH-1813 through TH-1897.

(b) Who must comply with this AD? Anyone who wishes to operate any of the airplanes identified in paragraph (a) of this AD must comply with this AD.

(c) What problem does this AD address? The actions specified by this AD are intended to detect and correct missing rivets in the right hand fuselage panel assembly in the area above the right wing and below the cabin door threshold. These rivets must be present for the fuselage to carry the ultimate load and prevent critical structural failure with loss of control of the airplane.

(d) What actions must I accomplish to address this problem? To address this problem, you must accomplish the following:

Actions | Compliance | Procedures
(1) For Group 1 airplanes: inspect for up to 9 missing rivets between fuselage station (F.S.) 83.00 and F.S. 91.00 at water line (W.L.) 90.3 | Within the next 100 hours time-in-service (TIS) after February 16, 2001 (the effective date of AD 2000-26-16), unless already accomplished | In accordance with the ACCOMPLISHMENT INSTRUCTIONS section of Raytheon Mandatory Service Bulletin SB 53-3341, Rev. 1, Revised: May 2000; or Raytheon Mandatory Service Bulletin SB 53-3341, Rev. 2, Revised: October, 2002; and the Bonanza Series Maintenance Manual or Baron Model 58 Series Maintenance Manual.
(2) For Group 2 airplanes: inspect for up to 9 missing rivets between fuselage station (F.S.) 83.00 and F.S. 91.00 at water line (W.L.) 90.3 | Within the next 100 hours time-in-service after February 27, 2003 (the effective date of this AD), unless already accomplished | In accordance with the ACCOMPLISHMENT INSTRUCTIONS section of Raytheon Mandatory Service Bulletin SB 53-3341, Rev. 1, Revised: May 2000; or Raytheon Mandatory Service Bulletin SB 53-3341, Rev. 2, Revised: October, 2002; and the Bonanza Series Maintenance Manual.
(3) For all affected airplanes: if you find rivets are missing, install these rivets | Before further flight after the inspection, unless already accomplished | In accordance with the ACCOMPLISHMENT INSTRUCTIONS section of Raytheon Mandatory Service Bulletin SB 53-3341, Rev. 1, Revised: May 2000; or Raytheon Mandatory Service Bulletin SB 53-3341, Rev. 2, Revised: October, 2002; and the Bonanza Series Maintenance Manual or Baron Model 58 Series Maintenance Manual.

(e) Can I comply with this AD in any other way? You may use an alternative method of compliance or adjust the compliance time if:

(1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) Alternative methods of compliance approved in accordance with AD 2000-26-16, which is superseded by this AD, are approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact T.N. Baktha, Aerospace Engineer, FAA, Wichita Aircraft Certification Office, 1801 Airport Road, Wichita, Kansas 67209; telephone: (316) 946-4155; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference?

(1) Actions required by this AD must be done in accordance with Raytheon Mandatory Service Bulletin SB 53-3341, Rev. 1, Revised: May 2000, or Raytheon Mandatory Service Bulletin SB 53-3341, Rev. 2, Revised: October, 2002.

(i) The Director of the Federal Register approved the incorporation by reference of Raytheon Mandatory Service Bulletin SB 53-3341, Rev. 2, Revised: October, 2002, under 5 U.S.C. 552(a) and 1 CFR part 51.

(ii) The Director of the Federal Register previously approved the incorporation by reference of Raytheon Mandatory Service Bulletin SB 53-3341, Rev. 1, Revised May, 2000, as of February 16, 2001 (66 FR 1253, January 8, 2001).

(2) You may get copies from Raytheon Aircraft Company, PO Box 85, Wichita, Kansas 67201-0085; telephone: (800) 429-5372 or (316) 676-3140. You may view copies at the FAA, Central Region, Office of the Regional Counsel, 901 Locust, Room 506, Kansas City, Missouri, or at the Office of the Federal Register, 800 North Capitol Street, NW., suite 700, Washington, DC.

(i) Does this AD action affect any existing AD actions? This amendment supersedes AD 2000-26-16, Amendment 39-12066.

(j) When does this amendment become effective? This amendment becomes effective on February 27, 2003.

Issued in Kansas City, Missouri, on December 30, 2002.
James E. Jackson,
Acting Manager, Small Airplane Directorate, Aircraft Certification Service.

[FR Doc. 03-148 Filed 1-7-03; 8:45 am]

BILLING CODE 4910-13-P